SOCIAL SECURITY ADMINISTRATION

[Docket No. SSA-2009-0052]

Privacy Act of 1974, as Amended; Computer Matching Program (SSA/U.S. Department of Health and Human Services (HHS), Administration for Children and Families (ACF), Office of Child Support Enforcement (OCSE)—Match #1306

AGENCY: Social Security Administration (SSA).

ACTION: Notice of a renewal of an existing computer matching program that is scheduled to expire on March 19, 2010.

SUMMARY: In accordance with the provisions of the Privacy Act, as amended, this notice announces a renewal of an existing computer matching program that we are currently conducting with OCSE.

DATES: We will file a report of the subject matching program with the Committee on Homeland Security and Governmental Affairs of the Senate, the Committee on Oversight and Government Reform of the House of Representatives, and the Office of Information and Regulatory Affairs, Office of Management and Budget (OMB). The matching program will be effective as indicated below.

ADDRESSES: Interested parties may comment on this notice by either telefaxing to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Pub. L. 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dated: February 18, 2010.
Michael G. Gallagher,
Deputy Commissioner for Budget, Finance and Management.

Notice of Computer Matching Program, SSA with HHS/ACF/OCSE

A. Participating Agencies

SSA and HHS/ACF/OCSE.

B. Purpose of the Matching Program

The purpose of this matching program is to establish the terms, conditions, and safeguards under which OCSE will provide us with quarterly wage (QW) and unemployment insurance (UI) information from the National Directory of New Hires (NDNH) to allow us to determine eligibility of applicants for Low-Income subsidy assistance under the Medicare Prescription Drug, Improvement, and Modernization Act of 2003 (Pub. L. 108-173). Under this agreement, we will use the QW and UI information to determine the eligibility of applicants for Low-Income subsidy assistance and existing Low-Income subsidy beneficiaries whose eligibility is being redetermined during periodic screening and routine reviews.

C. Authority for Conducting the Matching Program

The legal authority for this agreement is as follows:

1. Section 453(j)(4) of the Social Security Act (Act) (42 U.S.C. 653(j)(4)) provides authority for OCSE to provide us with information from NDNH;

2. Section 1631(f) of the Act (42 U.S.C. 1383) provides authority for Federal agencies to provide information to us, allowing us to determine “eligibility for or amount of benefits, or verifying other information with respect thereto;” and

3. Section 1860D-14(a)(3) of the Act (42 U.S.C. 1395w-114) provides authority for us to determine whether Part D eligible persons are eligible for prescription drug subsidy assistance under Section 1860D-14 of the Act.

D. Categories of Records and Persons Covered by the Matching Program

1. Specified Data Elements Used in the Match:

On the basis of certain identifying information extracted from our Medicare Database, SSA and OCSE will conduct a computerized comparison of the QW payment and UI benefit information in the NDNH maintained by OCSE in its Location and Collection (LCS) system of records.

2. Systems of Records:

OCSE will provide us with electronic files containing QW and UI data from its system of records, the LCS (ACF/OCSE, 09-90-0074). Pursuant to 5 U.S.C. 552a(b)(3), OCSE has established routine use to disclose the subject information.

We will match the OCSE information with electronic files from its system of records, Medicare Database (MDB, 60-0321)

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. 2010-3901 Filed 2-25-10; 8:45 am]

BILLING CODE 4191-02-P